COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete products and services previously furnished by nonprofit agencies employing persons who are blind or have other severe disabilities.

DATES: Comments must be received on or before: 1/12/2015.

ADDRESSES: Committee for Purchase From People Who Are Blind or Severely Disabled, 1401 S. Clark Street, Suite 10800, Arlington, Virginia 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

Bag, Protective

NSN: 6545-01-222-0684.

NPA: Mount Rogers Community Services Board, Wytheville, VA.

Contracting Activity: Defense Logistics Agency Troop Support, Philadelphia, PA.

Cover, Telescope Mounting

NSN: 6650-00-773-2030.

NPA: Huntsville Rehabilitation Foundation, Huntsville, AL.

Contracting Activity: Defense Logistics Agency Aviation, Richmond, VA.

Services

Service Type/Location: Grounds Maintenance Service, United States Postal Service: General Mail Facility, San Jose, CA.

NPA: VTF Services, Mountain View, CA (Deleted).

Contracting Activity: U.S. Postal Service, Washington, DC.

Service Type/Location: Janitorial/Custodial Service, U.S. Army Reserve Center: Rockford, 1130 Arthur Avenue, Rockford, IL.

NPA: Unknown.

Contracting Activity: Dept of the Army, W6QM MICC-ARCC North, Fort McCoy, WI.

Barry S. Lineback,
Director, Business Operations.

[FR Doc. 2014-29170 Filed 12-11-14; 8:45 am]

BILLING CODE 6353-01-P